DEPARTMENT OF ENERGY

Federal Energy Regulatory Commission

[Project No. 2145-040, Washington]

Public Utility District No. 1 of Chelan County, Washington; Notice of Availability of Environmental Assessment

April 11, 2002.

In accordance with the National Environmental Policy Act of 1969 and the Federal Energy Regulatory Commission's (Commission) regulations, 18 CFR Part 380 (Order No. 486, 52 FR 47910), the Office of Energy Projects has reviewed Public Utility District No. 1 of Chelan County's application for license amendment to construct and operate a permanent juvenile fish bypass system at the Rocky Reach Hydroelectric Project, located on the Columbia River in Chelan and Douglas Counties, Washington, and has prepared an Environmental Assessment (EA). The project occupies lands managed by the Bureau of Land Management and the U.S. Forest Service.

The EA contains the staff's analysis of the potential environmental impacts of the proposed amendment and concludes that approval of the proposed amendment with staff's modifications would not constitute a major federal action that would significantly affect the quality of the human environment.

The EA is attached to a Commission order issued on April 10, 2002, for the above application. Copies of the EA are available for review at the Commission's Public Reference Room, located at 888 First Street, NE., Washington, DC 20426, or by calling (202) 208-1371. The EA may be viewed on the web at http://www.ferc.gov/online/rims.htm (call (202) 208-2222 for assistance).

For further information, contact Bob Easton at (202) 219-2782.

Linwood A. Watson, Jr.,
Deputy Secretary.

[FR Doc. 02-9286 Filed 4-16-02; 8:45 am]

BILLING CODE 6717-01-P